UNITED STATES SENTENCING COMMISSION

Sentencing Guidelines for United States Courts

AGENCY: United States Sentencing Commission.

ACTION: Notice of extension of the deadline for application to the Victims Advisory Group

SUMMARY: The United States Sentencing Commission is issuing this notice to advise the public that the application period for membership in the Victims Advisory Group has been extended to November 13, 2007. The deadline was originally July 30, 2007.

This comment period is extended to ensure full dissemination of the information surrounding this group's inception to all appropriate parties and sufficient time for those parties to apply for membership.

SUPPLEMENTARY INFORMATION: After considering the request of the Judicial Conference of the United States regarding the formation of a victims advisory group, the United States Sentencing Commission has decided to establish a standing victims advisory group pursuant to 28 U.S.C. 995 and Rule 5.4 of the Commission's Rules of Practice and Procedure. The purpose of the advisory group is (1) To assist the Commission in carrying out its statutory responsibilities under 28 U.S.C. 994(o); (2) to provide the Commission its views on the Commission's activities as they relate to victims of crime; (3) to disseminate information regarding sentencing issues to organizations represented by the advisory group and to other victims of crime and victims advocacy groups, as appropriate; and (4) to perform any other functions related to victims of crime as the Commission requests. The victims advisory group will consist of not more than 9 members, each of whom may serve not more than two consecutive 3-year terms.

The Commission issued an invitation to apply for membership of the victims advisory group on June 19, 2007 (72 FR 33798). Applications were initially due to the Commission on July 30, 2007. The Commission hereby invites additional applications from any person or group who has knowledge, expertise, or experience in the area of federal crime victimization. Requests to be considered for the initial membership of the victims advisory group must be received by the Commission not later than November 13, 2007. Applications may be sent to Michael Courlander at the address listed below.

DATES: Applications should be received not later than November 13, 2007.

ADDRESSES: Send applications to: United States Sentencing Commission, One Columbus Circle, NE., Suite 2-500, South Lobby, Washington, DC 20002-8002, Attention: Public Affairs-Victims Advisory Group Application.

FOR FURTHER INFORMATION CONTACT: Michael Courlander, Public Affairs Officer, Telephone: (202) 502-4590.

Authority: USSC Rules of Practice and Procedure 5.4.

Ricardo H. Hinojosa,
Chair.

[FR Doc. E7-17798 Filed 9-10-07; 8:45 am]

BILLING CODE 2211-01-P